DEPARTMENT OF ENERGY

Federal Energy Regulatory Commission

[Docket No. EL15-87-000]

Starwood Energy Group Global, L.L.C., Beaver Falls, L.L.C., Syracuse, L.L.C., Hazleton Generation, L.L.C., Startrans IO, LLC, Gainesville Renewable Energy Center, LLC; Notice of Petition for Declaratory Order

Take notice that on July 29, 2015, pursuant to Rules 207 and 212 of the Federal Energy Regulatory Commission's (Commission) Rules of Practice and Procedure,18 CFR 385.207 and 385.212, Starwood Energy Group Global, L.L.C, Beaver Falls, L.L.C., Syracuse, L.L.C., Hazleton Generation, L.L.C., Startrans IO, LLC, and Gainesville Renewable Energy Center, LLC filed a petition for a Declaratory Order (petition) requesting the Commission determine that: (1) Current and future Limited Partnerships (LP) Interests are passive investments that do not allow the LP Investors to manage, direct, or control the activities of the Starwood Funds, the Project Companies or future Commission jurisdictional public utilities; (2) Transactions resulting in the purchase and sale of LP Interests do not require case specific approval pursuant to section 203 of the Federal Power Act (FPA) and, to the extent relevant, qualify for the benefit of blanket authorization with respect to non-voting securities under 18 CFR 33.1(c)(2)(i); (3) the Starwood Funds or their affiliates do not need to identify the LP Investors in any future FPA section 203 application, FPA section 205 market-based rate application, notice of change in status or updated market power analysis; and (4) the Commission does not have jurisdiction under FPA section 201 over the Starwood Funds and the LP Investors are not holding companies under the Public Utility Holding Company Act of 205 (PUHCA), as more fully explained in its petition.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Petitioner.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern time on August 28, 2015.

Dated: July 30, 2015.
Kimberly D. Bose,
Secretary.

[FR Doc. 2015-19201 Filed 8-4-15; 8:45 am]

BILLING CODE 6717-01-P